DEPARTMENT OF THE TREASURY

Submission for OMB Review; Comment Request

February 25, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 4, 2002 to be assured of consideration.

Departmental Offices/Assistant Secretary to International Affairs/Office of Program Services

OMB Number: 1505-0123.

Form Number: TD F SHL-1 and SHL-2 (and in different years, TD F SHLA-1 and SHLA-2).

Type of Review: Revision.

Title: Survey of Foreign Portfolio Investment in the United States.

Description: This survey determines the level of foreign portfolio investment in the United States, the types of investors, and foreign investment patterns. The data is used for policy formulation, the computation of the U.S. balance of payments accounts and international investment position, and to satisfy 22 U.S.C., 3101. The affected publish consists of major U.S. corporations.

Respondents: Business or other for-profit, Not-for-profit institutions.

Estimated Number of Respondents/Recordkeepers: 435.

Estimated Burden Hours Per Respondent/Respondent: 68 hours.

Frequency of Response: Annually.

Estimated Total Reporting/Recordkeeping Burden: 30,000 hours.

Clearance Officer: Lois K. Holland (202) 622-1563, Departmental Offices, Room 2110, 1425 New York Avenue, NW., Washington, DC 20220.

OMB Reviewer: Alexander T. Hunt (202) 395-7860, Office of Management and Budget, Room 10202, New Executive Office Building, Washington, DC 20503.

Lois K. Holland,
Departmental Reports, Management Officer.

[FR Doc. 02-5141 Filed 3-4-02; 8:45 am]

BILLING CODE 4810-25-P